DEPARTMENT OF JUSTICE

Antitrust Division

Notice Pursuant to the National Cooperative Research and Production Act of 1993—Open Geospatial Consortium, Inc.

Notice is hereby given that, on September 15, 2004, pursuant to section 6(a) of the National Cooperative Research and Production Act of 1993, 15 U.S.C. 4301 et seq. (“the Act”), Open Geospatial Consortium, Inc. (“OGC”) has filed written notifications simultaneously with the Attorney General and the Federal Trade Commission disclosing (1) The name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Open Geospatial Consortium, Inc., Wayland, MA. The nature and scope of OGC's standards development activities are: (1) To facilitate a formal, member-driven, consensus process to promote the development and use of advanced open systems standards and techniques for the definition and implementation of the National and Global Information Infrastructures, with an initial emphasis on the geosciences and related imaging and distributed multimedia technologies; (2) to enable interoperability of spatial components and services from different vendors by engaging in outreach, education, recruitment, and adoption activities focused on helping enterprises of all kinds understand that enterprise data can be leveraged with spatial capabilities to extend the use of corporate information throughout the enterprise; (3) to ensure that standards adopted by OGC become widely used globally; (4) to operate subsidiaries in accordance with the strategic direction of OGC, including subsidiaries that represent regionally-based OGC members in regional membership organizations and associations with a similar vision and mission to that of OGC, including local, sub-national and national agencies and associations of private persons and organizations; (5) to provide a regional and global industry forum to promote co-operative business development initiatives related to distributed geoprocessing; (6) to provide government and other policymaking bodies with neutral, third party reports and analyses explaining how interoperatibility, as enabled by OGC's work, can improve government and other enterprise operations and stimulate market development, adjusting to meet regional needs and circumstances; (7) to liaise and cooperate with other standards development and setting organizations and bodies world-wide that operate with missions and strategic directions similar to those of OGC, including organizations that address worldwide research requirements for interoperable geospatial technologies and geographic data, including activities where there is high social value associated with open networks providing access to information services, such as disaster preparedness and response, e-Government, sustainable development, research, education, and citizen engagement; and (8) to promote and to obtain funding to meet the need for education, promotion, and research related to interoperable geospatial technologies and data in the foregoing areas. OGC may also develop and maintain standards and specifications in the same areas, perform certification of technology compliant with such standards and specification; and perform other related research and experimentation in, and implementation of, open systems standards and technology.

Dorothy B. Fountain,
Deputy Director of Operations, Antitrust Division.

[FR Doc. 04-25833 Filed 11-19-04; 8:45 am]

BILLING CODE 4410-11-M